DEPARTMENT OF COMMERCE

International Trade Administration

(A-588-815)

Gray Portland Cement and Cement Clinker from Japan: Continuation of Antidumping Duty Order

AGENCY: Import Administration, International Trade Administration, Department of Commerce.

SUMMARY: As a result of the determinations by the Department of Commerce and the International Trade Commission that revocation of the antidumping duty order on gray portland cement and cement clinker from Japan would be likely to lead to continuation or recurrence of dumping and of material injury to an industry in the United States within a reasonably foreseeable time, the Department is publishing notice of the continuation of this antidumping duty order.

EFFECTIVE DATE: June 16, 2006.

FOR FURTHER INFORMATION CONTACT: Edythe Artman or Minoo Hatten, Office 5, AD/CVD Operations, Import Administration, International Trade Administration, U.S. Department of Commerce, 14th Street & Constitution Avenue, NW, Washington, DC 20230; telephone: (202) 482-3931 and (202) 482-1690, respectively.

SUPPLEMENTARY INFORMATION:

Background

On October 3, 2005, the Department of Commerce (the Department) initiated and the International Trade Commission (ITC) instituted the second sunset review of the antidumping duty order on gray portland cement and cement clinker from Japan, pursuant to section 751(c) of the Tariff Act of 1930, as amended (the Act). See Initiation of Five-year (“Sunset”) Reviews, 70 FR 57560 (October 3, 2005); Institution of Five-year Reviews concerning the Antidumping Duty Orders on Gray Portland Cement and Cement Clinker from Japan and Mexico, 70 FR 57617 (October 3, 2005). As a result of its review, the Department found that revocation of the antidumping duty order would be likely to lead to continuation or recurrence of dumping and notified the ITC of the magnitude of the margins likely to prevail were the order to be revoked. See Gray Portland Cement and Clinker from Japan; Final Results of the Expedited Sunset Review of the Antidumping Duty Order, 71 FR 6268 (February 7, 2006). On May 26, 2006, the ITC determined pursuant to section 751(c) of the Act that revocation of the antidumping duty orders on gray portland cement and cement clinker from Japan would be likely to lead to continuation or recurrence of material injury to an industry in the United States within a reasonably foreseeable time. See Gray Portland Cement and Cement Clinker from Japan, 71 FR 32127 (June 2, 2006), and ITC Publication 3856 (May 2006), entitled Gray Portland Cement and Cement Clinker from Japan: Investigation No. 731-TA-461 (Second Review).

Scope of the Order

The products covered by this order are cement and cement clinker from Japan. Cement is a hydraulic cement and the primary component of concrete. Cement clinker, an intermediate material produced when manufacturing cement, has no use other than grinding into finished cement. Microfine cement was specifically excluded from the antidumping duty order. Cement is currently classifiable under the Harmonized Tariff Schedule (HTS) item number 2523.29, and cement clinker is currently classifiable under HTS item number 2523.10. Cement has also been entered under HTS item number 2523.90 as “other hydraulic cements.” The Department made two scope rulings regarding subject merchandise. See Scope Rulings, 57 FR 19602 (May 7, 1992), classes G and H of oil well cement are within the scope of the order, and Scope Rulings, 58 FR 27542 (May 10, 1993), “Nittetsu Super Fine” cement is not within the scope of the order. The order remains in effect for all manufacturers, producers, and exporters of cement from Japan.

The HTS item numbers are provided for convenience and customs purposes. The written product description remains dispositive as to the scope of the product coverage.

Determination

As a result of the determinations by the Department and ITC that revocation of this antidumping duty order would be likely to lead to continuation or recurrence of dumping and material injury to an industry in the United States, pursuant to section 751(d)(2) of the Act, the Department hereby orders the continuation of the antidumping duty order on gray portland cement and cement clinker from Japan.

U.S. Customs and Border Protection will continue to collect antidumping duty cash deposits at the rates in effect at the time of entry for all imports of subject merchandise.

The effective date of continuation of this order will be the date of publication in the Federal Register of this Notice of Continuation. Pursuant to sections 751(c)(2) and 751(c)(6) of the Act, the Department intends to initiate the next five-year review of this order not later than May 2011.

These five-year (sunset) reviews and this notice are in accordance with section 751(c) of the Act.

Dated: June 9, 2006.
David M. Spooner,
Assistant Secretary for Import Administration.

[FR Doc. E6-9476 Filed 6-15-06; 8:45 am]

Billing Code: 3510-DS-S